FEDERAL TRADE COMMISSION

16 CFR Part 0

Rules of Practice

AGENCY: Federal Trade Commission.

ACTION: Final rule amendments.

SUMMARY: The Commission is updating the agency's description of its organization and activities in Part 0 of its Rules of Practice to include the Office of International Affairs.

DATES: Effective Date: March 2, 2007.

FOR FURTHER INFORMATION CONTACT: Lisa M. Harrison, Attorney, Office of the General Counsel, Federal Trade Commission, 600 Pennsylvania Avenue, NW., Washington, DC 20580, (202) 326-3204, lharrison@ftc.gov.

SUPPLEMENTARY INFORMATION: The Commission is amending Part 0 of its Rules of Practice, 16 CFR Part 0, to include the Office of International Affairs.

Rule 0.9, 16 CFR 0.9 (Organization structure). The Commission is revising this rule to include the Office of International Affairs.

Rule 0.20, 16 CFR 0.20 (Office of International Affairs). The Commission is adding this rule describing the functions of the Office of International Affairs, which comprises international antitrust, international consumer protection, and international technical assistance. The Office of International Affairs is responsible for designing and implementing the Commission's international program, which supports and promotes the Commission's core maintaining competition and consumer protection missions.

The Administrative Procedure Act does not require prior public notice and comment on these amendments because they relate solely to rules of agency organization, procedure or practice. 5 U.S.C. 553(b)(A). For this reason, the Regulatory Flexibility Act also does not require an initial or final regulatory flexibility analysis. See 5 U.S.C. 603, 604.

List of Subjects in 16 CFR Part 0

Organization and functions (Government Agencies).

For the reasons set forth in the preamble, the Federal Trade Commission amends Title 16, chapter I, subchapter A, of the Code of Federal Regulations as follows:

SUBCHAPTER A—ORGANIZATION, PROCEDURES, AND RULES OF PRACTICE

PART 0—ORGANIZATION

1. The authority for part 0 remains as follows:

Authority: 5 U.S.C. 552(a)(1); 15 U.S.C. 46(g).

2. Revise § 0.9 to read as follows:

§ 0.9 Organization structure.

The Federal Trade Commission comprises the following principal units: Office of the Executive Director; Office of the General Counsel; Office of the Secretary; Office of the Inspector General; Office of the Administrative Law Judges; Office of International Affairs; Bureau of Competition; Bureau of Consumer Protection; Bureau of Economics; and the Regional Offices.

3. Add § 0.20 to read as follows:

§ 0.20 Office of International Affairs.

The Office of International Affairs (OIA) comprises international antitrust, international consumer protection, and international technical assistance. OIA is responsible for designing and implementing the Commission's international program, which provides support and advice to the Bureaus of Competition and Consumer Protection with regard to the international aspects of investigation and prosecution of unlawful conduct. OIA builds cooperative relationships between the Commission and foreign authorities; works closely with Bureau personnel to recommend agency priorities and policies and works, through bilateral relationships and multilateral organizations, to promote those policies internationally; and implements Commission policy and participation in the competition and consumer protection aspects of trade fora and negotiations, such as the U.S. inter-agency delegations negotiating bilateral and multilateral free trade agreements. OIA works with authorized funding sources to develop and implement competition and consumer protection technical assistance programs.

By direction of the Commission.
Donald S. Clark,
Secretary.

[FR Doc. E7-3718 Filed 3-1-07; 8:45 am]

BILLING CODE 6750-01-P